DEPARTMENT OF HEALTH AND HUMAN SERVICES

National Institutes of Health

NCCIH Workshop 2020: Exploring the Mechanisms Underlying Analgesic Properties of Minor Cannabinoids and Terpenes

AGENCY: National Institutes of Health, HHS.

ACTION: Notice.

SUMMARY: The National Center for Complementary and Integrative Health (NCCIH) will hold a workshop on October 23, 2020. The topic of this workshop will be “Exploring the Mechanisms Underlying Analgesic Properties of Minor Cannabinoids and Terpenes”. The overall goals of this workshop are to convene principal investigators funded by NCCIH on the topic of the analgesic properties of minor cannabinoids and terpenes from natural products and the underlying mechanisms as well as to discuss current research barriers and opportunities on this topic.

DATES: The Meeting will be held on October 23, 2020, from 9:45 a.m. to 3:00 p.m. (ET).

ADDRESSES: This workshop will be livestreamed via videocast. Registration is requested via https://nccih_cbd_workshop.eventbrite.com.

FOR FURTHER INFORMATION CONTACT: For information concerning this meeting, contact Dr. Inna Belfer, Program Director, Basic and Mechanistic Research, Division of Extramural Research, National Center for Complementary and Integrative Health, Telephone: 301-435-1573; Email: inna.belfer@nih.gov.

SUPPLEMENTARY INFORMATION: In accordance with 42 U.S.C. 287c-21, of the Public Health Service Act, as amended and in keeping with the mission of the National Center for Complementary and Integrative Health (NCCIH) is to define, through rigorous scientific investigation, the usefulness and safety of complementary and integrative interventions and their roles in improving health and health care. This workshop is aligned with NCCIH's mission to support research on the fundamental science, safety, and usefulness of complementary and integrative health approaches. Specifically, minor cannabinoids and terpenes from natural products are part of complementary interventions supported by NCCIH. The workshop is also aligned with NCCIH's strategic goals of advancing understanding of basic biological mechanisms of action of natural products and improving care for hard-to-manage symptoms, such as pain.

Dated: October 13, 2020.
Helene Langevin,
Director, National Center for Complementary and Integrative Health, National Institutes of Health.

[FR Doc. 2020-22990 Filed 10-16-20; 8:45 am]

BILLING CODE 4140-01-P